NUCLEAR WASTE TECHNICAL REVIEW BOARD

Notice of Meeting

Board meeting: June 29, 2010—Idaho Falls, Idaho; the U.S. Nuclear Waste Technical Review Board will meet to discuss U.S. Department of Energy plans for managing spent nuclear fuel and high-level radioactive waste.

Pursuant to its authority under section 5051 of Public Law 100-203, Nuclear Waste Policy Amendments Act of 1987, the U.S. Nuclear Waste Technical Review Board will meet in Idaho Falls, Idaho, on Tuesday, June 29, 2010. to review U.S. Department of Energy (DOE) plans for managing spent nuclear fuel (SNF) and high-level radioactive waste (HLW). Among the topics that will be discussed are the amounts and characteristics of waste stored at the Idaho National Laboratory, agreements in place between the State of Idaho and the federal government related to the packaging and movement of the waste, how the recent decision to terminate the Yucca Mountain repository program will affect waste management plans, and plans underway at DOE to transition its responsibilities under the Nuclear Waste Policy Act (NWPA) from the Office of Civilian Radioactive Waste Management to the Office of Nuclear Energy. Also on the agenda are discussions of innovative reactor technologies that could affect amounts or types of SNF or HLW requiring disposal and presentations on studies of advanced fuel cycles. The Nuclear Waste Policy Amendments Act of 1987 requires the Board to conduct an independent review of the technical and scientific validity of DOE activities related to nuclear waste management, including transporting, packaging, and disposing of SNF and HLW.

The Board meeting will be held at the Hilton Garden Inn, 700 Lindsay Boulevard; Idaho Falls, ID 83402; (tel.) 208-522-9500, (fax) 208-522-9501. A block of rooms has been reserved for meeting attendees. When making a reservation, please ask for the “NWTRB” rate. Reservations should be made by June 21, 2010, to ensure receiving the meeting rate.

A detailed meeting agenda will be available on the Board's Web site http://www.nwtrb.gov approximately one week before the meeting. The agenda also may be obtained by telephone request at that time. The meeting will be open to the public, and opportunities for public comment will be provided.

The meeting will begin at 8:30 a.m. on Tuesday morning. Time has been set aside at the end of the day for public comments. Those wanting to speak are encouraged to sign the “Public Comment Register” at the check-in table. A time limit may have to be set on individual remarks, but written comments of any length may be submitted for the record.

Transcripts of the meeting will be available on the Board's Web site, by e-mail, on computer disk, and in paper format on library-loan from Davonya Barnes of the Board's staff no later than July 19, 2010.

The Board was established as an independent federal agency to provide objective expert advice to Congress and the Secretary of Energy on technical issues and to review the technical validity of DOE activities related to implementing the NWPA. Board members are experts in their fields and are appointed to the Board by the President from a list of candidates submitted by the National Academy of Sciences. The Board is required to report to Congress and the Secretary no fewer than two times each year. All Board reports, correspondence, congressional testimony, and meeting transcripts and related materials are posted on the Board's Web site.

For information on the meeting agenda, contact Carl Di Bella, for information on lodging or logistics, contact Linda Coultry; 2300 Clarendon Boulevard, Suite 1300; Arlington, VA 22201-3367; (tel) 703-235-4473; (fax) 703-235-4495.

Dated: May 19, 2010.
Nigel Mote,
Executive Director, U.S. Nuclear Waste Technical Review Board.

[FR Doc. 2010-12519 Filed 5-26-10; 8:45 am]

BILLING CODE 6820-AM-M